NUCLEAR REGULATORY COMMISSION

Request for a License To Export Nuclear Grade Graphite

Pursuant to 10 CFR 110.70(b)(3) “Public notice of receipt of an application,” please take notice that the Nuclear Regulatory Commission has received the following request for an export license. Copies of the request are available electronically through ADAMS and can be accessed through the Public Electronic Reading Room (PERR) link http://www.nrc.gov/NRC/ADAMS/index.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the request to export nuclear grade graphite noticed herein, the Commission does not evaluate the health, safety or environmental effects in the recipient nation of the material to be exported. The information concerning this export request follows.

NRC Export License Application Nuclear Grade Graphite
Name of applicant, date of application, date received, application No., and docket No. | Description of material: Material type | Description of material: Total qty | Description of material: End use | Description of material: Country of destination
SGL Carbon, LLC; November 20, 2002; December 26, 2002; XMAT0403; 11005383 | Nuclear Grade Graphite | 869,000.0 Kilograms | For industrial and commercial non-nuclear end use | Canada.

For the Nuclear Regulatory Commission.
Dated this 3rd day of January, 2003 at Rockville, Maryland.
Edward T. Baker,
Deputy Director, Office of International Programs.

[FR Doc. 03-710 Filed 1-13-03; 8:45 am]

BILLING CODE 7590-01-P